FEDERAL HOUSING FINANCE AGENCY

[No. 2026-N-3]

Proposed Collection; Comment Request

AGENCY: Federal Housing Finance Agency.

ACTION: 30-Day notice of submission of information collection for approval from the Office of Management and Budget.

SUMMARY: In accordance with the requirements of the Paperwork Reduction Act of 1995 (PRA), the Federal Housing Finance Agency (FHFA) is seeking public comments concerning an information collection known as “Community Support Requirements,” which has been assigned control number 2590-0005 by the Office of Management and Budget (OMB). FHFA intends to submit the information collection to OMB for review and approval of a three-year extension of the control number, which is due to expire on April 30, 2026.

DATES: Interested persons may submit comments on or before March 26, 2026.

ADDRESSES: Submit comments to the Office of Information and Regulatory Affairs of the Office of Management and Budget, Attention: Desk Officer for the Federal Housing Finance Agency, Washington, DC 20503, Fax: (202) 395-3047, Email: OIRA_submission@omb.eop.gov. Please also submit comments to FHFA, identified by “Proposed Collection; Comment Request: `Community Support Requirements, (No. 2026-N-3)'” by any of the following methods:

• Agency Website: https://www.fhfa.gov/regulation/federal-register?comments=open.

• Federal eRulemaking Portal: https://www.regulations.gov. Follow the instructions for submitting comments. If you submit your comment to the Federal eRulemaking Portal, please also send it by email to FHFA at RegComments@fhfa.gov to ensure timely receipt by the agency.

• Mail/Hand Delivery: Federal Housing Finance Agency, Fourth Floor, 400 Seventh Street SW, Washington, DC 20219, ATTENTION: Proposed Collection; Comment Request: “Community Support Requirements, (No. 2026-N-3).” Please note that all mail sent to FHFA via the U.S. Postal Service is routed through a national irradiation facility, a process that may delay delivery by approximately two weeks. For any time-sensitive correspondence, please plan accordingly.

FHFA will post all public comments, including any personally identifiable information such as name and contact information, on the FHFA public website at https://www.fhfa.gov, except as described below. Commenters should submit only information that the commenter wishes to make available publicly. FHFA will not redact personally identifiable information once it is submitted. Commenters who do not wish to be identified by their comments may submit their comments anonymously. FHFA may post only a single representative example of identical or substantially identical comments, and in such cases will generally identify the number of identical or substantially identical comments represented by the posted example. FHFA may, in its discretion, redact or refrain from posting all or any portion of any comment that contains content that is obscene, vulgar, profane, or threatens harm. All comments, including those that are redacted or not posted, will be retained in their original form in FHFA's internal file and will be considered as required by all applicable laws. Commenters who would like FHFA to consider any portion of their comment exempt from disclosure on the basis that it contains trade secrets, or financial, confidential or proprietary data or information, should follow the procedures in section IV.D. of FHFA's Policy on Communications with Outside Parties in Connection with FHFA Rulemakings, see https://www.fhfa.gov/sites/default/files/documents/Ex-Parte-Communications-Public-Policy_3-5-19.pdf, which FHFA is also applying to Notices requesting public comments. FHFA cannot guarantee that such data or information will remain confidential if disclosure is sought pursuant to an applicable statute or regulation. See 12 CFR 1202.8, 12 CFR 1214.2, and FHFA's FOIA Reference Guide https://www.fhfa.gov/about/foia-reference-guide for additional information.

FOR FURTHER INFORMATION CONTACT: Tiffani Moore, Supervisory Policy Analyst, by email at Tiffani.Moore@fhfa.gov, by telephone at (202) 649-3304; or Angela Supervielle, Assistant General Counsel, by email at Angela.Supervielle@fhfa.gov, by telephone at (202) 649-3973 (these are not toll-free numbers). For TTY/TRS users with hearing and speech disabilities, dial 711 and ask to be connected to any of the contact numbers above.

SUPPLEMENTARY INFORMATION:

A. Need For and Use of the Information Collection

The Federal Home Loan Bank System (System) consists of eleven regional Federal Home Loan Banks (Banks) and the Office of Finance, a joint office of the Banks that issues and services their debt securities. The Banks are wholesale financial institutions, organized under authority of the Federal Home Loan Bank Act (Bank Act) to serve the public interest by enhancing the availability of residential housing finance and community lending credit through their member institutions and, to a limited extent, through eligible non-member “housing associates.” Each Bank is structured as a regional cooperative that is owned and controlled by member financial institutions located within its district, which are also its primary customers.

Section 10(g)(1) of the Bank Act requires the Director of FHFA to promulgate regulations establishing standards of community investment or service that Bank member institutions must meet in order to maintain access to long-term Bank advances.1 2 Section 10(g)(2) of the Bank Act requires that, in establishing these community support requirements for Bank members, FHFA take into account factors such as the member's performance under the Community Reinvestment Act of 1977 (CRA) ³ and record of lending to first-time homebuyers.⁴ FHFA's community support regulation, which establishes standards and review criteria for determining compliance with section 10(g) of the Bank Act, is set forth at 12 CFR part 1290.

¹ 12 U.S.C. 1430(g)(1).

² For purposes of the community support requirements, a long-term advance is an advance with a term of maturity greater than one year. 12 CFR 1290.1 (definition of “long-term advance”).

³ See 12 U.S.C. 2901 et seq.

⁴ 12 U.S.C. 1430(g)(2).

Part 1290 requires that each Bank member subject to community support review submit to FHFA biennially a completed Community Support Statement (Form 060), which contains several short questions, the answers to which are used by FHFA to assess the responding member's compliance with the statutory and regulatory community support standards.⁵ Members are strongly encouraged to complete and submit Form 060 online, but may submit a version via email or fax if they cannot complete the submission online. In Part I of Form 060, a member that is subject to the CRA must record its most recent CRA rating and the year of that rating. Part II of Form 060 addresses a member's efforts to assist first-time homebuyers. A member may either record the number and dollar amount of mortgage loans made to first-time homebuyers in the previous or current calendar year (Part II.A), or indicate the types of programs or activities it has undertaken to assist first-time homebuyers by checking selections from a list (Part II.B), or do both. If a member has received a CRA rating of “Outstanding,” it need not complete Part II.

⁵ See 12 CFR 1290.2. Non-depository community development financial institutions and institutions that have been Bank members for less than one year as of March 31 of the year the Form 060 is due are not required to submit Form 060.

Part 1290 also establishes the circumstances under which FHFA will restrict a member's access to long-term Bank advances and to the Bank Affordable Housing Programs (AHP), Community Investment Programs (CIP), and Community Investment Cash Advance (CICA) programs for failure to meet the community support requirements.⁶ Part 1290 permits Bank members whose access to long-term advances has been restricted to apply directly to FHFA to remove the restriction.⁷

⁶ See 12 CFR 1290.5(b), (e).

⁷ See 12 CFR 1290.5(d).

FHFA uses the information collection contained in FHFA Form 060 to determine whether Bank members satisfy the statutory and regulatory community support requirements, and to ensure that, as required by statute and regulation, only Bank members that meet those requirements maintain continued access to long-term Bank advances and to the Bank AHP, CIP, and CICA programs.

The OMB control number for this information collection is 2590-0005, which is due to expire on Aril 30, 2026. The respondents are Bank member institutions.

B. Burden Estimate

FHFA has analyzed the two facets of this information collection to estimate the hour burdens that the collection will impose upon Bank members annually over the next three years. Based on that analysis, FHFA estimates that the total annual hour burden will be 1,856 hours. The method FHFA used to determine the annual hour burden for each facet of the information collection is explained in detail below.

1. Community Support Statements

FHFA estimates an annual average of 3,090 respondents. FHFA estimates that the average preparation and submission time for each Community Support Statement is 0.6 hours. The estimate for the total annual hour burden on Bank members in connection with the preparation and submission of Community Support Statements is, therefore, 1,854 hours (3,090 Statements × 0.6 hours).

2. Requests To Remove a Restriction on Access to Long-Term Advances

FHFA estimates that an annual average of 2 Bank members whose access to long-term advances and to AHP, CIP, and CICA programs has been restricted will prepare and submit requests to FHFA to remove those restrictions, and that the average preparation time for each request will be 1 hour. The estimate for the total annual hour burden on Bank members in connection with the preparation and submission of requests to remove a restriction on access to long-term advances is, therefore, 2 hours (2 requests × 1 hours).

C. Comment Request

In accordance with the requirements of 5 CFR 1320.8(d), FHFA published an initial notice and request for public comments regarding this information collection in the Federal Register on November 18, 2025.⁸ FHFA received one comment letter. The commenter supported this information collection because it extends current processes, which the commenter stated are simple and easy to follow.

⁸ See 90 FR 51757 (Nov. 18, 2025).

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Shawn Bucholtz,
Chief Data Officer, Federal Housing Finance Agency.

[FR Doc. 2026-03614 Filed 2-23-26; 8:45 am]

BILLING CODE 8070-01-P